DEPARTMENT OF ENERGY

Federal Energy Regulatory Commission

[Project No. 14584-001]

Dynegy Point Estero Wave Park, LLC; Notice of Surrender of Preliminary Permit

Take notice that Dynegy Point Estero Wave Park, LLC, permittee for the proposed Point Estero Wave Park Project, has requested that its preliminary permit be terminated. The permit was issued on October 28, 2014, and would have expired on November 1, 2017.¹ The project would have been located in the Pacific Ocean between 2.5 and 3.0 miles off the coast of San Luis Obispo County, California, and on land near the town of Morro Bay.

¹ 149 FERC ¶ 62,058.

The preliminary permit for Project No. 14584 will remain in effect until the close of business, November 3, 2016. But, if the Commission is closed on this day, then the permit remains in effect until the close of business on the next day in which the Commission is open.² New applications for this site may not be submitted until after the permit surrender is effective.

² 18 CFR 385.2007(a)(2) (2016).

Dated: October 4, 2016.
Kimberly D. Bose,
Secretary.

[FR Doc. 2016-24473 Filed 10-7-16; 8:45 am]

BILLING CODE 6717-01-P